DEPARTMENT OF TRANSPORTATION

Federal Aviation Administration

[Docket No. FAA-2022-1273]

Agency Information Collection Activities: Requests for Comments; Approval of Clearance Renewal for Information Collection: For the Information Collection Entitled, Website for Frequency Coordination Request

AGENCY: Federal Aviation Administration (FAA), Department of Transportation (DOT).

ACTION: Notice and request for comments.

SUMMARY: In accordance with the Paperwork Reduction Act of 1995, FAA invites public comments about our intention to request the Office of Management and Budget (OMB) approval in accordance with the Paperwork Reduction Act of 1995, FAA invites public comments about our intention to request the Office of Management and Budget (OMB) approval to allow renewal of the currently approved information collection via the FAA's deployed Web-based Frequency Coordination system (WebFCR), which collects certain broadcast and transmitter frequency information under OMB control number 2120-0786. The information collected is needed to perform the aeronautical studies, technical evaluations required and to meet the specified requirements for the radio frequency engineering pursuant to the FAA Order. The Federal Aviation Administration (FAA) Order 6050.32.B, Chapter 3, Section 302 outlines the US National Organizations, and the role of the National Telecommunications and Information Administration (NTIA) is assigning the Aviation Assignment Group (AAG) of the radio spectrum to FAA which support aeronautical services. Hence, FAA must “authorize” aeronautical frequencies of broadcast applications which impact the AAG bands.

DATES: Written comments should be submitted by November 28, 2022.

ADDRESSES: Please send written comments:

By Electronic Docket: https://www.regulations.gov (Enter docket number into search field).

By Mail: Christopher S. Jones, Spectrum Engineering and Assignment, AJW-151, Room 7E-325, 800 Independence Avenue, Washington, DC 20591.

By Fax: (202) 267-6056.

FOR FURTHER INFORMATION CONTACT: Christopher S. Jones by email or phone at: christopher.s.jones@faa.gov; phone: (202) 267-5926.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0786.

Title: website for Frequency Coordination Request (WebFCR) webfcr.faa.gov.

Form Numbers: Historically related to FAA Form 7460-1.

Type of Review: Request for renewal of information collection.

Background: 49 U.S.C. Section44718(c) under Broadcast Applications and Tower Studies states, `In carrying out laws related to a broadcast application—the Administrator of the Federal Aviation Administration and the Federal Communications Commission shall take action necessary to coordinate efficiently—(1) The receipt and consideration of, and action on, the application; and (2) The completion of any associated aeronautical study. Currently, transmitter broadcast radio frequency data is collected via OMB Control 2120-0786 to address non-Federal, military, U.S. federal agency, state and municipalities broadcast applications which require consideration, analysis or aeronautical studies pursuant to 49 U.S.C. Section 44718(c).

Respondents: Approximately 2400 annually. The Respondents are engineers, analysts, consultants, stakeholders or federal agency managers, including military services, who have a need to transmit on a radio frequency which is within the National Telecommunications and Information Administration's (NTIA) Aviation Assignment Group (AAG) frequency band assigned to the FAA for civil aviation use. The response to this data collection is required for the proponent to obtain FAA concurrence to use a radio frequency that impacts civil aviation. The information collected through the WebFCR portal supports the engineering, modeling, validation and workflow management of the request to evaluate if the request interferes or impacts civil aviation operations pursuant to FAA Order 6050.32B.

Frequency: Information is collected on occasion.

Estimated Average Burden per Response: 0.2 Hours.

Estimated Total Annual Burden: 480 Hours.

Issued in Washington, DC, on September 23, 2022.
Christopher S. Jones,
Spectrum Engineering and Assignment Navigation Lead, Spectrum Engineering and Assignment Group, AJW-1510.

[FR Doc. 2022-20969 Filed 9-27-22; 8:45 am]

BILLING CODE 4910-13-P